DEPARTMENT OF TRANSPORTATION

Federal Aviation Administration

14 CFR Part 25

[Docket No.: FAA-2019-0218; Amdt. No. 25-151]

RIN 2120-AL15

High Elevation Airport Operations; Correction

AGENCY: Federal Aviation Administration (FAA), U.S. Department of Transportation (DOT).

ACTION: Final rule; correction.

SUMMARY: On June 15, 2023, the FAA published a final rule titled “High Elevation Airport Operations”. That document made amendments to certain airworthiness regulations applicable to cabin pressurization systems and oxygen dispensing equipment on transport category airplanes, to facilitate certification of those airplanes, systems, and equipment for operation at high elevation airports, and inadvertently identified the Amendment No. as 25-148. The correct Amendment No. is 25-151. This document makes that correction.

DATES: Effective July 11, 2023.

FOR FURTHER INFORMATION CONTACT: Robert Hettman, Aircraft Systems Section, AIR-623, Technical Innovation Policy Branch, Policy and Innovation Division, Aircraft Certification Service, Federal Aviation Administration, 2200 S 216th Street, Des Moines, Washington 98198; telephone and facsimile 206-231-3171; email robert.hettman@faa.gov.

SUPPLEMENTARY INFORMATION:

Electronic Access and Filing

A copy of the High Elevation Airport Operations final rule may be viewed online at https://www.regulations.gov using the docket number listed above. A copy of this correction will be placed in the same docket. Electronic retrieval help and guidelines are available on the website. It is available 24 hours each day, 365 days each year. An electronic copy of this document may also be downloaded from the Office of the Federal Register's website at https://www.federalregister.gov and the Government Publishing Office's website at https://www.govinfo.gov. A copy may also be found at the FAA's Regulations and Policies website at https://www.faa.gov/regulations_policies.

Copies may also be obtained by sending a request to the Federal Aviation Administration, Office of Rulemaking, ARM-1, 800 Independence Avenue SW, Washington, DC 20591, or by calling (202) 267-9677. Commenters must identify the docket or notice number of this rulemaking.

All documents the FAA considered in developing this correction, including economic analyses and technical reports, may be accessed in the electronic docket for this rulemaking.

Background

On June 15, 2023, the High Elevation Airport Operations final rule (RIN 2120-AL15) published in the Federal Register at 88 FR 39152. After publication, the FAA discovered that it inadvertently identified the Amendment No. for part 25 as 25-148. The correct Amendment No. is 25-151. This document makes that correction.

Correction

In FR Doc. 2023-12454, beginning on page 39152, in the Federal Register of June 15, 2023, make the following correction in the header of the document. On page 39152, in the first column, in the header of the document, the listing of docket number and amendment no. is corrected to read as follows:

[Docket No.: FAA-2019-0218; Amdt. No. 25-151]

Issued under authority provided by 49 U.S.C. 106(f), 44701(a), and 44703 in Washington, DC.
Brandon Roberts,
Executive Director, Office of Rulemaking.

[FR Doc. 2023-14576 Filed 7-10-23; 8:45 am]

BILLING CODE 4910-13-P